FEDERAL MINE SAFETY AND HEALTH REVIEW COMMISSION

Sunshine Act Notice

December 1, 2015.

TIME AND DATE: 10:00 a.m., Thursday, December 10, 2015.

PLACE: The Richard V. Backley Hearing Room, Room 511N, 1331 Pennsylvania Avenue NW., Washington, DC 20004 (enter from F Street entrance).

STATUS: Open.

MATTERS TO BE CONSIDERED: The Commission will consider and act upon the following in open session:

Secretary of Labor v. AK Coal Resources, Inc., Docket No. PENN 2014-159

Secretary of Labor v. Pinnacle Mining Co., LLC, Docket No. WEVA 2014-963

Secretary of Labor v. James L. Deck, Docket No. SE 2014-322-M

Secretary of Labor v. BCJ Sand & Rock, Inc., Docket No. WEST 2015-7-M

Secretary of Labor v. E & G Masonry Stone #2, Docket No. CENT 2015-21-M

Secretary of Labor v. U.S. Silver—Idaho, Inc., Docket No. WEST 2015-717-M

Secretary of Labor v. Apogee Coal Co., LLC, Docket No. WEVA 2014-632

Secretary of Labor v. Campbell Redi-Mix, Inc., Docket Nos. WEST 2014-917-M and WEST 2014-918-M

(Issues include whether motions to reopen the cases should be granted by the Commission.)

Any person attending this meeting who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD Relay/1-800-877-8339 for toll free.

Sarah L. Stewart,
Deputy General Counsel.

[FR Doc. 2015-30639 Filed 12-1-15; 11:15 am]

BILLING CODE 6735-01-P